DEPARTMENT OF VETERANS AFFAIRS

West Los Angeles VA Medical Center Veterans Programs Enhancement Act of 1998; Master Plan

AGENCY: Department of Veterans Affairs.

ACTION: Final Notice.

SUMMARY: On January 19, 2011, the Department of Veterans Affairs (VA) published a notice in the Federal Register inviting public comment on the Draft Master Plan (DMP) for the West Los Angeles VA Medical Center. This document responds to the public comments received and affirms as final, with no changes, that Draft Master Plan.

FOR FURTHER INFORMATION CONTACT: For Master Plan issues, contact Ralph Tillman, Chief of Communications and External Affairs, Greater Los Angeles Healthcare System (00PA), Department of Veterans Affairs, 11301 Wilshire Boulevard, Los Angeles, CA 90073. Telephone: (310) 268-3340 (this is not a toll-free number).

SUPPLEMENTARY INFORMATION: In a notice published on January 19, 2011 [76 FR 3209], VA presented its Draft Master Plan for the West Los Angeles VA Medical Center campus (hereafter “WLA campus”) of the VA Greater Los Angeles Healthcare System (VA GLAHS), and solicited public comment on the DMP for a period of 30 days. The purpose of the DMP was to satisfy the legislative mandate of the Veterans Programs Enhancement Act of 1998 regarding “a master plan for the use of the lands * * * over the next 25 years and over the next 50 years.” This is a land use plan that guides the physical development of the campus to support its mission of patient care, teaching, and research. The plan reflects legislative restrictions on the property and discusses developmental goals and design objectives for the campus. The plan includes guidelines and criteria for land use and reuse on the campus, which provides a variety of services including inpatient and outpatient medical care, rehabilitation, residential care, mental health care and long-term care services. In addition, the campus serves as a center for medical research and education.

We received 29 comments on the DMP. All of the comments opposed at least one portion of the DMP. The majority of comments included one or more of the following topics: homeless housing for veterans on the WLA campus, existing land use, bicycle access within or through the campus, and the plan's level of detail regarding specific projects. The subject matter of most of the comments can be grouped into several categories, and we have organized our discussion of the comments accordingly.

Comments Concerning Homeless Housing

There were a number of comments regarding how the DMP addressed homeless housing for veterans, particularly permanent housing on the grounds of the WLA campus. A single commenter expressed concern that increasing services to homeless veterans would negatively impact the surrounding community, stating that the VA already attracts “homeless pedestrians” who “offend customers by requesting donations.” The eradication of homelessness among veterans has been deemed a priority mission by Secretary Shinseki, and it is only in pursuing that mission that vagrancy problems are likely to be eliminated. We therefore make no change based on this comment.

The majority of commenters believed the DMP should address the increased need for housing and services by veterans who are homeless. The DMP did address this issue, under the heading, “Community Care/Homeless Programs.” (p. 38) This section details the numbers of emergency shelter beds (55), transitional housing beds (1,500), Department of Housing and Urban Development (HUD) Section 8 permanent housing vouchers (940), and community residential beds for veterans with chronic disabilities (300). In addition, under the heading, “Domiciliary Residential Rehabilitation and Treatment,” the plan describes the existing 321-bed facility, which houses both male and female veterans and provides coordinated, integrated, rehabilitative, and restorative mental health care in a residential program. (p. 38)

Several commenters expressed concern that plans to renovate Building 209 were not sufficient to meet the need for homeless veterans housing. Citing a pressing need and possible cost efficiencies, several commenters suggested that Buildings 205 and 208 be renovated at the same time as building 209. The DMP states that Buildings 205, 208, and 209 have been identified for potential renovation, to serve as housing for homeless veterans. As stated in the DMP, VA “* * * does not commit to any specific project, construction schedule, or funding priority.” As projects are further evaluated and authorized, both the needs of the veterans and the historical and environmental impacts of the projects will be considered. We therefore make no change based on this comment.

Some commenters suggested that VA was negligent in its responsibility towards homeless veterans, specifically stating that VA GLAHS was remiss in not providing shelter. In response, we note that VA GLAHS has one of the most recognized programs in the nation for serving homeless veterans, called the Comprehensive Homeless Center. The Comprehensive Homeless Center has many components dedicated to providing shelter for homeless veterans including: access to extended residential care for veterans with serious mental health and medical problems through the aforementioned VA GLAHS Domiciliary, which has 321 beds; case management of over 1,500 veterans with mental health issues living independently in the community through the HUD-VA Supported Housing Program; case management of approximately 300 veterans with a diagnosis of mental illness in board and care and assisted living facilities; same-day access to primary care, mental health care, and housing placement at the centralized screening clinic; and specialty dual diagnosis housing programs for veterans with both mental health and substance abuse issues. In particular, we note that VA operates a widely recognized transitional housing program on the WLA campus, where approximately 1,200 community transitional housing beds have been secured for homeless veterans. Veterans in transitional housing programs stay for 3-to-18 months while receiving a range of medical, mental health and rehabilitative services; a high percentage of veterans who complete this transitional housing program move on to independent housing.

In addition, the Comprehensive Homeless Center helps homeless veterans develop the skills they need to find jobs that will keep them off the streets. Homeless veterans are provided access to vocational rehabilitation and job-finding programs through private agencies with funding provided by the VA and the Department of Labor's Homeless Veterans Reintegration Program.

The Comprehensive Homeless Center has an active outreach program. Great efforts are made to locate homeless veterans at homeless congregating areas like shelters and rescue missions. Outreach efforts also include area jails for incarcerated homeless veterans.

Because VA GLAHS is already providing these extensive programs to end homelessness among veterans, we make no changes based on these comments.

One commenter was concerned with the fact that the WLA campus has a zero-tolerance policy toward alcohol and drug use on campus, and how that policy affects our programs for homeless veterans.

Substance abuse is a persistent and recurring issue among homeless veterans, especially those coping with mental health problems such as PTSD. The WLA campus is a drug- and alcohol-free campus, and as such does not support a “housing first” model of care. The “housing first” approach provides housing for individuals regardless of whether or not they are currently abusing drugs and/or alcohol. This model differs from traditional approaches that require clients to reach a certain level of functioning through treatment before receiving long-term housing. In order to maintain a substance-free campus for the benefit of veterans undergoing treatment, VA GLAHS partners with various off-campus organizations and agencies throughout Greater Los Angeles to safely house and work with veterans who fall within the “housing first” criteria. We therefore make no change based on this comment.

Comments on Existing Land Use Agreements

A number of commenters expressed concerns regarding existing land use agreements on the WLA campus. These commenters listed the various agreements, and called for the cancellation of all agreements with “* * * all commercial, non-profit, special-interest, non-Veteran entities,” expressing the belief that these agreements were a misappropriation of veterans land. The approved Capital Asset Realignment Enhanced Services (CARES) plan, which included public participation, allowed for retaining existing Enhanced Sharing Agreements (ESA) until their respective expiration. It is expected that renewal of these ESAs, as well as any new ESAs will need to adhere to the guiding principles and criteria set forth in the DMP, once the DMP is finalized. Furthermore, each of the existing agreements was executed pursuant to and in accordance with 38 U.S.C. 8151-8153 (commonly referred to as VA's enhanced sharing authority). The existing agreements benefit the veterans' community in some way. For example, the ESA with the University of California at Los Angeles (UCLA) that covers the Jackie Robinson Memorial Stadium provides veterans' organizations such as the American Legion with access to athletic facilities, as well as providing free admission to veterans for all home baseball games.

We also received comments regarding the Veterans Park Conservancy (VPC) agreement. These commenters each brought up a misperception that the VPC agreement will create a park for the public and not for veterans. To clarify, the Veterans Memorial Park exists and is being used for the benefit of veterans, to enhance and support patient-centered care, recreation therapy and mental health programs and staff. The area will have limited public access, as does the rest of the WLA campus. There was concern expressed by one commenter regarding Megan's Law, should children be present on the campus where veterans who are convicted sex offenders may reside. Again, the campus is a place for veterans to heal, and is not available for traditional public use. The development of a Veterans Memorial Park does not in any way change the local policy on public use of the grounds. Megan's Law applies the same today as it will when the VPC project is completed.

One commenter stated that the “inclusion of the State Veterans Home as Federal VA land in all maps” was not consistent with the DMP, which states that 13.5 acres were transferred to the State of California via a quitclaim deed for the use of the State Veterans Home. The acreage in question was in fact deeded to the State of California in March 2007. The transfer took place prior to congressionally imposed restrictions on the use of the 388 acres composing West LA, i.e. Section 224 (a) of the Consolidated Appropriations Act, 2008, Public Law 110-161. The section of the DMP that covers Zone 2, the zone that borders the State Veterans Home, contains a map that reflects this transfer and defines the Zone as “up to the new California State Veterans Home.” The 13.5 acre area on which the State Veterans Home is located is not included as within the boundary of Zone 2, as it is in fact State property. (pg. 28)

We also received comments about the parking lot at Barrington Park, which is under the jurisdiction and control of, and operated by, the City of Los Angeles. Some commenters reported that potentially homeless individuals sleep in cars and other vehicles overnight in the lot. As that parking lot is not within VA's jurisdiction and control, we make no change to the DMP due to this information.

We received one comment regarding the Army Reserve area adjacent to the west side of the south area of the WLA campus. Specifically, the commenter asked whether this area will become VA property, should the Army Reserve no longer have need for this area. The land was part of an inter-agency transfer of property to the U.S. Corps of Engineers in 1955. VA does not have a legal interest in the disposition of that property. Therefore, we make no change in the DMP due to this comment.

Comments That the DMP Lacks Specificity

There were a number of comments regarding the specific details of projects and land use programs addressed in the DMP. The DMP is a general use plan, and is inherently not project-specific.

Commenters sought more detail on the heights of buildings, the operating hours of projects once completed, the distance from proposed project sites to residential homes, square footage of projects, cost projections, environmental and historical impact, and many other project-specific details.

As stated in the plan, VA “does not commit to any specific project, construction schedule, or funding priority.” As projects are further evaluated and authorized, both the needs of the veterans and the historical and environmental impacts of the projects will be considered. Several of these comments were in regard to the specific prioritization and timeline for conversion of Buildings 205, 208 and 209.

One commenter expressed concern that the DMP inhibited new programs on the WLA campus by creating a “maze of redundant processes and unnecessary roadblocks to Veteran-friendly development.” The DMP incorporates legislative decisions such as Public Law 100-322, section 421(b) (2), which restrict development with respect to public-private partnerships. VA GLAHS will abide by the guidelines and criteria set forth in the DMP with respect to land use opportunities that provide direct benefit for veterans.

One commenter was concerned that the DMP did not advance the CARES plan, expressing that the CARES process should have included a needs assessment of all under-utilized and vacant asset on the WLA campus. A needs assessment was indeed performed during the CARES process, during VA's subsequent Strategic Capital Investment Planning (SCIP) process, and preparation of the DMP, to identify the assets that can be redirected to better serve the needs of veterans. Therefore, we make no changes based on these comments.

Concerns That the DMP Fails To Abide by Restrictions of the 1888 Deed

Several commenters felt that the 1888 deed granting the West Los Angeles land formed a charitable trust that requires VA, as trustee of the purported trust, to maintain a National Home for Veterans. Some of these commenters felt that the DMP was a violation of that purported trust by suggesting the land be used for purposes other than housing veterans. VA disagrees with the assertion that the 1888 deed rendered VA a charitable trustee for the WLA campus. The 1888 deed contained certain language expressing the donor's desire that a National Home for Veterans (NHV) be built on the underlying property that was donated to the United States, which land is now under VA's jurisdiction and control. The donor's desire, while merely an expression of purpose and intent of the donation, has been satisfied, as a NHV was built on the WLA campus. Notably, the NHV still exists on the campus.

Moreover, in Farquhar v. United States, 912 F.2d 468 (9th Cir. 1990), descendents of the original land donors previously challenged the ability of the United States to transfer a portion of the land donated under the 1888 deed. In denying the descendants' position, the U.S. Court of Appeals for the Ninth Circuit held that the creation of the NHV (i.e., the Pacific Branch of the National Home for Disabled Volunteer Soldiers) in the same year that the land was originally deeded to the United States, satisfied the donor's desire (i.e., purpose and intent) for donating the land to the United States.

Based on the foregoing, we make no change based on this comment.

Comments on Transit Services and Traffic Issues

Several commenters weighed in on transit services and traffic issues, particularly regarding potential bicycle access on the WLA campus and on the grounds of the Los Angeles National Cemetery. The majority of these comments expressed a desire to include in the DMP access that reflects “* * *the needs of the cycling community.” Several commenters expressed a desire to use the National Cemetery as a thoroughfare for cyclists. While we would encourage certain of our veterans to cycle for their health, to encourage cycling on campus and on National Cemetery property would almost exclusively benefit the public, and not veterans. The additional traffic and security concerns that would accompany any increase in cycling activity, combined with the fact that it is not primarily of benefit to veterans, makes including this kind of access for cycling on campus undesirable; however, as projects are further developed and approved, this issue will be further evaluated through VA's compliance with the National Environmental Policy Act (NEPA), 42 U.S.C. 4321, et seq. Therefore, we make no changes to the DMP based on these comments.

We also received comments seeking more information on the proposed Los Angeles County Metropolitan Transit Authority (Metro) Purple Line expansion, which eventually will travel the length of Wilshire Boulevard to Santa Monica. As mentioned in the DMP, (pg. 28) the project is in the initial planning phase and there are no details to provide. Metro has proposed building a station on the WLA campus as part of this expansion project and has identified a few locations that might serve its needs. However, any such station affecting the campus would be subject to applicable law and statutory restrictions, and must not interfere with the VA GLAHS priority of maintaining the peaceful and healing environment of our health care campus.

One commenter asked if the VA would “cooperate with the surrounding governmental jurisdictions to complete traffic studies and provide traffic mitigation for the increased traffic” that may result from any increased land use. As stated in the DMP, traffic, parking, and circulation studies will be conducted as part of VA's compliance with NEPA. (pg. 18) Though the WLA campus is under the jurisdiction of the Federal Government, Federal agencies generally consider State and local zoning laws and codes when undertaking any new project. We therefore make no change based on these comments.

Comments on the Need for Separate Facilities for Female Veterans

One commenter expressed concern that separate supportive housing was not available for female veterans and their children. To clarify, there is dedicated housing for women veterans as part of our Domiciliary Residential Rehabilitation and Treatment Program facility, located on the north campus in Buildings 217 and 214. The program serves male and female veterans with mental health issues such as substance abuse and/or combat trauma.

While there is no specific on-campus housing for female veterans with children, VA GLAHS has an extensive network of off-campus providers who meet this need through HUD-VA Supported Housing and Grant and Per Diem programs throughout Los Angeles County and neighboring counties. VA GLAHS's Comprehensive Homeless Center also includes a dedicated outreach team for homeless female veterans. VA GLAHS has adequate programs in place to meet the housing needs of women veterans with children.

A commenter stated that there was a need for a separate facility dedicated to the general healthcare needs of female veterans. The VA GLAHS's Women Veterans Health Program has dedicated clinicians, programs and facilities to meet the unique needs of female veterans in a safe, women-only environment. Services offered include gynecology services, breast exams and mammography, reproductive health care, and menopause treatment. Additionally, mental health services including treatment for post-traumatic stress disorder and substance abuse are also available for women. Through the Women Veterans Health Program, VA GLAHS provides female veterans the health care and mental health services they need in a safe and supportive, women-only environment. We therefore make no change based on this comment.

Comments on the National Cemetery Administration Columbarium Project

There were several comments seeking clarification regarding the National Cemetery Administration's columbarium project. The U.S. Department of Veterans Affairs is comprised of three administrations: the Veterans Health Administration, the Veterans Benefits Administration, and the National Cemetery Administration. The columbarium enables VA to support the provision of Federally guaranteed benefits offered by the Veterans Benefits Administration and the National Cemetery Administration. One commenter expressed dismay that the project would lower surrounding real estate values. Another commenter felt that the columbarium project was depriving living veterans of land that might be converted to housing for the homeless. Again, the burial benefits offered veterans are entitlements provided by the Federal Government. The land designated for columbaria does not contain any structures that have been identified as potential homeless housing, so the use of the land for columbaria does not in any way deprive homeless veterans of potential living space. As projects such as the columbarium are further evaluated and authorized, both the needs of the veterans and the historical, environmental, and socio-economical impacts of the projects will be considered.

Some commenters wanted to know the exact location of the columbarium. Regarding requests for specific details regarding the size, hours of operation, and access points for this potential project that is only a concept at this stage, VA has not finalized details beyond the information that was contained in the DMP. The NEPA process is complete. The draft Environmental Assessment was released for public comment with none received. The resultant Finding of No Significant Impact was signed on February 2, 2011. We make no change to the DMP due to these comments.

Comments About Including the Public in the Planning Process

Several commenters expressed concerns that the public was not being afforded adequate time to offer input on the DMP during the public comment process. The Federal Register process in which VA GLAHS engaged to obtain comments from veterans and the public is the most public and transparent process available for including veterans and the public in the development of this DMP. Additionally, the DMP that was published on January 19, 2011, fully incorporates the approved CARES plan, which included a series of public hearings and meetings as part of its approval process. The DMP is also consistent with the recently released SCIP. Finally, VA GLAHS has ongoing meetings with Veteran Service Organizations, community groups, and other local stakeholders, at which recurring updates on land use at the WLA campus are provided.

Several commenters suggested that a new DMP be created. We have reviewed these comments, and while we respect the opinions of the individual commenters, VA is of the position that this DMP, once finalized, will address the mandate and meet the criteria to be submitted and serve as a final Master Plan for the WLA campus. Therefore, we make no changes based on these comments. As projects outlined in the Master Plan are further evaluated and authorized, both the needs of the veterans and the historical, environmental, and socio-economical impacts of the projects will be considered. Details of these projects will be developed and released to the public for comment through VA's compliance with NEPA.

Comments That the DMP Serves the Needs of the Community Over Those of Veterans

There were several comments to the effect that the DMP serves the needs of outside interests over those of veterans. Particularly, these comments referenced a misperception that the agreement with Veterans Park Conservancy would result in the development of a “public park.” This DMP provides for land use and reuse for the direct benefit of veterans, and puts in place guidelines and criteria that will assure the land is used to support the mission of offering the highest quality health care, research, education and disaster response to serve the needs of veterans and the community. The 10 Guiding Principles of the DMP clearly state the criteria that VA GLAHS will use in considering any land use or reuse, (p. 24) and none of these 10 principles reflects serving the community as a priority. While the WLA campus does exist within a community and VA GLAHS is proud to be a part of encouraging healthy communities, serving the needs of the community never takes precedence over serving the needs of the veterans. Therefore, we make no change based on these comments.

Comments That the DMP Does Not Address Therapeutic Recreation Areas for Veterans

We received several comments regarding recreation for Veterans on campus. Specifically, these commenters wanted to see the development of more outdoor sports facilities for veterans, such as a fitness center and tennis courts, etc.

The DMP addressed both planned recreation areas for veterans and green space where veterans can engage in therapeutic outside activities. A fitness and recreation area, completed in 2010, is located adjacent to the west side of Building 500. It includes machines and stations where veterans can work out at their own pace, as well as a padded surface for a safe area for less ambulatory veterans to get exercise. It is open every day from dawn until dusk.

Regarding outside recreation activities, VA GLAHS continues the long tradition of having a golf course on campus for veterans. The course, operated by United States Veterans Initiative (U.S. Vets), is open from sun-up to sun-down 7 days a week, and Veteran residents and inpatients receive first priority for play. The Veteran community has second priority, finally followed by the general public as space is available. VA also has beneficial use of the athletic facilities at the Brentwood School and MacArthur Field as part of the land use agreements for those spaces.

A planned future recreational and therapeutic area for veterans is provided for under the agreement with Veterans Park Conservancy. The development of a Veterans Memorial Park will be designed in coordination with VA patient-centered care, recreation therapy and mental health programs and staff. An initial phase of the project, the historic Rose Garden, will be completed in fall of 2011. This area, located just across the street from the Domiciliary, will include meditative gardens, tables for chess and checkers, and soothing fountains, making it a space ideal for both for recreational and therapeutic use. Also on the north campus is the Japanese Garden, a peaceful environment with lush plants, waterfalls, and Koi fish for veterans to enjoy. Finally, on the south campus, adjacent to the American Red Cross facility, there are walking trails, succulent gardens and colorful native plants for veterans, as well as loved ones staying in the Fisher House, to enjoy year-round.

The agreement with UCLA for the Jackie Robinson Stadium includes free admission to home baseball games for veterans.

Physical Therapy and Recreation Therapy programs also exist to provide veterans with unique recreation experiences in a safe and supportive environment. Through these programs, veterans are able to participate in skiing, surfing, and compete in the Golden Age Games each year.

We believe that the DMP adequately addressed therapeutic recreation opportunities for veterans. Therefore, we make no changes based on these comments; however, as projects are further evaluated and authorized, opportunities to provide additional recreational areas to veterans may be considered as part of VA's compliance with NEPA.

Comments Regarding the Legality of Sharing Agreements

Two commenters challenged VA's authority to use ESAs as a contracting vehicle for land use programs on the WLA campus. ESAs are legally authorized under 38 U.S.C. 8153, a Federal statute that deals with VA land sharing agreements. All existing agreements have been legally reviewed and approved at local and national levels, and all future agreements will follow the same approval process. Therefore, we make no changes based on these comments.

Conclusion

For the foregoing reasons, we adopt the DMP without change as the Master Plan for the West Los Angeles VA Medical Center. The Master Plan is available at http://www.losangeles.va.gov/. The Master Plan conforms to the relevant laws in effect on the date of publication. A change in law, such as the Administration's proposed Civilian Property Realignment Act, could impact this property. If these laws change, VA will update the Master Plan accordingly.

Signing Authority

The Secretary of Veterans Affairs, or designee, approved this document and authorized the undersigned to sign and submit the document to the Office of the Federal Register for publication electronically as an official document of the Department of Veterans Affairs. John R. Gingrich, Chief of Staff, Department of Veterans Affairs, approved this document on May 19, 2011, for publication.

William F. Russo,
Deputy Director, Office of Regulation Policy and Management, Office of the General Counsel, Department of Veterans Affairs.

[FR Doc. 2011-15739 Filed 6-22-11; 8:45 am]

BILLING CODE P